DEPARTMENT OF COMMERCE

National Oceanic and Atmospheric Administration

[RTID 0648-XC615]

CIE Review of the Atlantis Ecosystem Model in Support of Ecosystem-Based Fishery Management in the Gulf of Mexico Large Marine Ecosystem

AGENCY: National Marine Fisheries Service (NMFS), National Oceanic and Atmospheric Administration (NOAA), Department of Commerce.

ACTION: Notice of public meeting.

SUMMARY: The NMFS will convene a peer-review of the Gulf of Mexico (GOM) Atlantis ecosystem model, in support of ecosystem-based fishery management in the Gulf of Mexico (GOM) large marine ecosystem. The purpose of the meeting is to facilitate a formal peer-review of the GOM Atlantis ecosystem model, to evaluate the model performance characteristics and to identify any appropriate EBFM applications in the southeast region that the GOM Atlantis model could be used to simulate. The external and independent peer review will be conducted by the Center for Independent Experts (CIE), which is a NOAA-supported, formal scientific peer-review process for evaluating scientific information to ensure quality and credibility. The public is invited to attend the presentations and discussions between the CIE review panel and the scientists who have participated in the development and internal, peer-review of the GOM Atlantis model.

DATES: The public portion of the Review of the Atlantis Ecosystem Model in Support of Ecosystem-Based Fishery Management in the Gulf of Mexico Large Marine Ecosystem Meeting will be held March 28th, 2023-March 30th, 2023, with an open session for public comment on March 30th, from 9:30-11:30 a.m. eastern. Please see the SUPPLEMENTARY INFORMATION for the daily meeting agenda.

ADDRESSES: The meeting will be available via Google Meet (meet.google.com/pxj-bdic-zwh), or in-person at the Florida Fish and Wildlife Research Institute (100 8th Ave. SE, St. Petersburg, FL 33701), in the 3rd floor conference room.

FOR FURTHER INFORMATION CONTACT: Michelle Masi, phone: 727-551-5729; email: michelle.masi@noaa.gov.

SUPPLEMENTARY INFORMATION: For further information, please visit the Gulf Council's Facebook page at https://www.facebook.com/GulfCouncil/, or their main web page at https://gulfcouncil.org/.

Daily Meeting Agenda—GOM Atlantis Model (CIE) Peer Review Meeting

The agenda is subject to change; all times are in Eastern Time and are approximate. Times may change, at the discretion of the Peer Review meeting facilitator.

Tentative Agenda

(Final agenda to be provided two weeks prior to the meeting).

Review of the Atlantis Ecosystem Model in Support of Ecosystem-Based Fishery Management in the Gulf of Mexico Large Marine Ecosystem

March 28—March 30, 2023

Florida Fish and Wildlife Research Institute, 100 8th Avenue SE, St. Petersburg FL 33701

Tuesday March 28th, 2023

9-9:30 a.m. Introduction to the role of Atlantis ecosystem model at the Southeast Fisheries Science Center (Michelle Masi)

9:30-10 a.m. History, goals, and evolution of Atlantis model development at NWFSC and CSIRO (Isaac Kaplan)

10-10:20 a.m. Current and potential role of Atlantis ecosystem models for the Gulf of Mexico Integrated Ecosystem Assessment and/or Council's Fishery Ecosystem Plan (Chris Kelble/Mandy Karnauskas)

Break

10:30-12 p.m. Overview of mechanics, assumptions, and functional forms of Atlantis (Cameron Ainsworth/Holly Perryman)

Lunch

1-2 p.m. Continued: Overview of mechanics, assumptions, and functional forms of Atlantis (Cameron Ainsworth/Holly Perryman)

Break

2:15-3:30 p.m. Context from earlier model versions: larval dispersal, seagrass routine/dynamics, changes in fishing pressure scenarios (Cameron Ainsworth/Holly Perryman)

3:30-4:30 p.m. Panel deliberation—1 hr

Wednesday March 29th, 2023

Published Atlantis model (Cameron Ainsworth/Holly Perryman)

9- 9:30 a.m. Aims of the modeling effort

9:30—9:45 a.m. Geography and functional groups

9:45—10:30 a.m. Data (Cameron Ainsworth)

• Lower trophic levels

• Fish

• Protected species

• Fisheries and management representation

Break

10:45-12 p.m. Example applications and recent publications (Cameron Ainsworth)

• Testing management scenarios

• Cumulative impacts of groundfish fisheries

• Forage fish harvest and effects on food web

• Linking of Atlantis to economic impacts models

Lunch

1-2:30 p.m. Model calibration and fits to history (Cameron Ainsworth/Holly Perryman)

• Estimates of unfished biomass

• Sensitivity to fixed fishing mortalities, estimates of MSY and FMSY

• Fits to historical data

• Sensitivity to initial conditions

2:30-3:30 p.m. Handling of uncertainty (Cameron Ainsworth/Holly Perryman)

• Bounded scenarios—uncertainty in biomass estimates

• Bounded scenarios—uncertainty in rate parameters

3:30-4 p.m. Discussion regarding the appropriate role of this model for management needs defined in TOR 1.

4-5 p.m. Panel deliberation

Thursday, March 30th, 2023

Public Comment & CIE Panel Discussion and Q&As

9:30-11:30 a.m. Public Comment (Open to the Public)

Lunch

12:30-2:30 p.m. Extra time to discuss any provided model diagnostic material

The meeting is open to the public; however, will only be able to provide input during the public comments session (March 30th, from 9:30-11:30 a.m. ET).

Special Accommodations

This meeting is physically accessible to people with disabilities. Special requests should be directed to Michelle Masi, via email.

Dated: January 18, 2023.
Jennifer M. Wallace,
Acting Director, Office of Sustainable Fisheries, National Marine Fisheries Service.

[FR Doc. 2023-01223 Filed 1-23-23; 8:45 am]

BILLING CODE 3510-22-P